DEPARTMENT OF JUSTICE

Notice of Public Meeting; Concerning Heavy Duty Diesel Engine Consent Decrees

The Department of Justice and the Environmental Protection Agency announce a public meeting to be held on March 21, 2000 from 10:00 a.m. to 12:00 p.m. at 1425 New York Ave., N.W., 13th Floor Conference Room, Washington, DC. The subject of the meeting will be implementation of the provisions of seven consent decrees signed by the United States and diesel engine manufacturers and entered by the United States District Court for the District of Columbia on July 1, 1999. In supporting entry by the Court of the decrees, the United States committed to meet with states, industry groups, environmental groups, and concerned citizens to discuss consent decree implementation issues. This will be the third of a series of public meetings to be held quarterly during the first year of implementation of the consent decrees and at least annually thereafter. Future meetings will be announced in the Federal Register and/or on EPA's Diesel Engine Settlement web page at: www.epa.gov/oeca/ore/aed/diesel.

Topics covered will likely include the manufacturers' progress toward meeting the emission standards in the Consent Decrees and EPA's recent approval of the manufacturers' Project proposals. Interested parties may contract the Environmental Protection Agency prior to the meeting at the address listed below with questions or suggestions for other topics of discussion.

For further information, please contact: Anne Wick, EPA Diesel Engine Consent Decree Coordinator, U.S. Environmental Protection Agency (Mail Code 2242A), EPA Headquarters, Washington, DC 20460, e-mail: WICK.ANNE@EPA.GOV.

Joel M. Gross,
Chief, Environmental Enforcement Section Environment and Natural Resources Division.

[FR Doc. 00-6532 Filed 3-15-00; 8:45 am]

BILLING CODE 4410-15-M